DEPARTMENT OF HOMELAND SECURITY

Coast Guard

[Docket No. USCG-2012-0460]

Notice of a Public Meeting To Prepare for the Twenty-Second Session of the Assembly of the International Mobile Satellite Organization (IMSO)

AGENCY: Coast Guard, DHS.

ACTION: Notice of public meeting.

SUMMARY: The U.S. Coast Guard will hold a public meeting on subject matters that will be addressed at the Twenty-Second Session of the Assembly of the International Mobile Satellite Organization (IMSO).

DATES: A public meeting will be held on Thursday, May 31st, 2012, from 11 a.m. to 12 p.m.

ADDRESSES: The meeting will be held at Coast Guard Headquarters, 2100 Second Street SW., Washington, DC, Room 1200.

FOR FURTHER INFORMATION CONTACT: Lieutenant Commander Matthew Frazee at (202) 372-1376 or by email to imo@uscg.mil.

SUPPLEMENTARY INFORMATION: The purpose of this public meeting is to prepare for the Twenty-Second Session of the International Mobile Satellite Organization (IMSO) Assembly to be held June 25-28, 2012 in London, United Kingdom. The primary topics that will be considered at the public meeting include:

• Oversight and performance of the Global Maritime Distress and Safety System (GMDSS);

• Oversight, performance, audits, charging formulas and proposals for the Long Range Identification and Tracking (LRIT) System;

• Directorate matters, including succession planning and the term of the current Director General;

• Financial matters, including arrangements for the development, endorsement and agreement of the IMSO budget.

Members of the public may attend this meeting up to the seating capacity of the room. To facilitate the security process related to building access, or to request reasonable accommodation, those who plan to attend should contact the meeting coordinator, LCDR Matthew Frazee, by email at imo@uscg.mil, by phone at (202) 372-1376, or in writing at Commandant (CG-52), U.S. Coast Guard, 2100 2nd Street SW., Stop 7126, Washington, DC 20593-7126, not later than May 24th, 2012. Requests made after May 24, 2012, may not be able to be accommodated. Please note that due to building security requirements, each visitor must present two valid, government-issued photo identifications in order to gain entrance to the Coast Guard Headquarters building. The Coast Guard Headquarters building is accessible by taxi and privately owned conveyance (public transportation is not generally available). However, public parking in the vicinity of the building is extremely limited.

Members of the public are encouraged to participate and join in discussions, subject to the discretion of the moderator. Persons wishing to make formal presentations should provide advance notice to Lieutenant Commander Matthew Frazee at (202) 372-1376 or by email at imo@uscg.mil as soon as possible.

Dated: May 17, 2012.
F.J. Sturm,
Acting Director of Commercial Regulations and Standards, U.S. Coast Guard.

[FR Doc. 2012-12457 Filed 5-22-12; 8:45 am]

BILLING CODE 9110-04-P